DEPARTMENT OF COMMERCE

Foreign-Trade Zones Board

Order No. 1541

Approval of Manufacturing Authority, Within Foreign-Trade Zone 26, Atlanta, Georgia, Perkins Shibaura Engines LLC (Diesel Engines)

Pursuant to its authority under the Foreign-Trade Zones Act of June 18, 1934, as amended (19 U.S.C. 81a-81u) (the Act), the Foreign-Trade Zones Board (the Board) adopts the following Order:

Whereas, Georgia Foreign-Trade Zone, Inc., grantee of FTZ 26, has requested authority under Section 400.28 (a)(2) of the Board's regulations on behalf of Perkins Shibaura Engines LLC, to manufacture diesel engines under FTZ procedures within FTZ 26 Site 6, Griffin, Georgia (FTZ Docket 24-2007, filed 7-19-2007);

Whereas, notice inviting public comment has been given in the Federal Register (72 FR 40833, 7-25-2007);

Whereas, the Board adopts the findings and recommendations of the examiner's report, and finds that the requirements of the FTZ Act and the Board's regulations are satisfied, and that approval of the application is in the public interest;

Now, therefore, the Board hereby grants authority for the manufacture of diesel engines within FTZ 26 for Perkins Shibaura Engines LLC, as described in the application and Federal Register notice, subject to the Act and the Board's regulations, including Section 400.28.

Signed at Washington, DC, this 7th day of March 2008.

David M. Spooner,
Assistant Secretary of Commerce for Import Administration, Alternate Chairman, Foreign-Trade Zones Board.
Attest:
Andrew McGilvray,
Executive Secretary.

[FR Doc. E8-5441 Filed 3-17-08; 8:45 am]

BILLING CODE 3510-DS-S